DEPARTMENT OF ENERGY

Federal Energy Regulatory Commission

Combined Notice of Filings

Take notice that the Commission has received the following Natural Gas Pipeline Rate and Refund Report filings:

Filings Instituting Proceedings

Docket Numbers: RP07-34-000.

Applicants: PANHANDLE JOINT PARTIES, Southwest Gas Storage Company, Panhandle Complainants, Panhandle Complainants v. Southwest Gas.

Description: Southwest Gas Storage Company submits its Semi-Annual Compliance Report, for the period November 1, 2013 through April 30, 2014.

Filed Date: 5/30/14.

Accession Number: 20140530-5173.

Comments Due: 5 p.m. ET 6/11/14.

Docket Numbers: RP07-541-000.

Applicants: Southwest Gas Storage Company.

Description: Southwest Gas Storage Company submits its Semi-Annual Compliance Report, for the period November 1, 2013 through April 30, 2014.

Filed Date: 5/30/14.

Accession Number: 20140530-5173.

Comments Due: 5 p.m. ET 6/11/14.

Docket Numbers: RP14-1006-000.

Applicants: Enable Mississippi River Transmission, L.

Description: Negotiated Rate Filing to Remove CES 5375 Eff 6-1-14 to be effective 6/1/2014.

Filed Date: 5/29/14.

Accession Number: 20140529-5113.

Comments Due: 5 p.m. ET 6/10/14.

Docket Numbers: RP14-1007-000.

Applicants: Kinder Morgan Louisiana Pipeline LLC.

Description: Periodic Rate Adjustment Filing 05-29-2014 to be effective 7/1/2014.

Filed Date: 5/29/14.

Accession Number: 20140529-5130.

Comments Due: 5 p.m. ET 6/10/14.

Docket Numbers: RP14-1008-000.

Applicants: Colorado Interstate Gas Company, L.L.C.

Description: Quarterly LUF Reimbursement Percentage and Index Price Development Update Filing to be effective 7/1/2014.

Filed Date: 5/29/14.

Accession Number: 20140529-5137.

Comments Due: 5 p.m. ET 6/10/14.

Docket Numbers: RP14-1009-000.

Applicants: Gulf South Pipeline Company, LP.

Description: Cap Rel Neg Rate Agmt Filing (Chesapeake 34684 to BP 42515) to be effective 6/1/2014.

Filed Date: 5/30/14.

Accession Number: 20140530-5023.

Comments Due: 5 p.m. ET 6/11/14.

Docket Numbers: RP14-1010-000.

Applicants: Gulf South Pipeline Company, LP.

Description: Cap Rel Neg Rate Agmts (QEP 37657 to BP 42513, 42514) to be effective 6/1/2014.

Filed Date: 5/30/14.

Accession Number: 20140530-5024.

Comments Due: 5 p.m. ET 6/11/14.

Docket Numbers: RP14-1011-000.

Applicants: Gulf South Pipeline Company, LP.

Description: Cap Rel Neg Rate Agmt (JW 34690 to QWest 42547) to be effective 6/1/2014.

Filed Date: 5/30/14.

Accession Number: 20140530-5025.

Comments Due: 5 p.m. ET 6/11/14.

Docket Numbers: RP14-1012-000.

Applicants: Gulf South Pipeline Company, LP.

Description: Cap Rel Neg Rate Agmt (QEP 36601 to Trans LA 42546) to be effective 6/1/2014.

Filed Date: 5/30/14.

Accession Number: 20140530-5026.

Comments Due: 5 p.m. ET 6/11/14.

Docket Numbers: RP14-1013-000.

Applicants: Rockies Express Pipeline LLC.

Description: Rockies Express Pipleine LLC Penalty Charge Reconciliation Filing.

Filed Date: 5/29/14.

Accession Number: 20140529-5282.

Comments Due: 5 p.m. ET 6/10/14.

Docket Numbers: RP14-1014-000.

Applicants: Gulf South Pipeline Company, LP.

Description: Cap Rel Neg Rate Agmt (QEP 37657 to Texla 42559) to be effective 6/1/2014.

Filed Date: 5/30/14.

Accession Number: 20140530-5027.

Comments Due: 5 p.m. ET 6/11/14.

Docket Numbers: RP14-1015-000.

Applicants: Discovery Gas Transmission LLC.

Description: 2014 FL&U Submittal to be effective 7/1/2014.

Filed Date: 5/30/14.

Accession Number: 20140530-5101.

Comments Due: 5 p.m. ET 6/11/14.

Docket Numbers: RP14-1016-000.

Applicants: Texas Gas Transmission, LLC.

Description: Superseding Amdts to NC Neg Rate Agmts (Southwestern 27019, 27435) to be effective 6/1/2014.

Filed Date: 5/30/14.

Accession Number: 20140530-5117.

Comments Due: 5 p.m. ET 6/11/14.

Docket Numbers: RP14-1017-000.

Applicants: Columbia Gas Transmission, LLC.

Description: PAL—Allocation to be effective 7/1/2014.

Filed Date: 5/30/14.

Accession Number: 20140530-5118.

Comments Due: 5 p.m. ET 6/11/14.

Docket Numbers: RP14-1018-000.

Applicants: Columbia Gulf Transmission, LLC.

Description: PAL—Allocation to be effective 7/1/2014.

Filed Date: 5/30/14.

Accession Number: 20140530-5120.

Comments Due: 5 p.m. ET 6/11/14.

Docket Numbers: RP14-1019-000.

Applicants: Crossroads Pipeline Company.

Description: PAL—Allocation to be effective 7/1/2014.

Filed Date: 5/30/14.

Accession Number: 20140530-5121.

Comments Due: 5 p.m. ET 6/11/14.

Docket Numbers: RP14-1020-000.

Applicants: Hardy Storage Company, LLC.

Description: Hardy Storage Company's Annual Penalty Revenue Crediting Report.

Filed Date: 5/30/14.

Accession Number: 20140530-5152.

Comments Due: 5 p.m. ET 6/11/14.

Docket Numbers: RP14-1021-000.

Applicants: Elba Express Company, L.L.C.

Description: Annual Cashout True-up—2014.

Filed Date: 5/30/14.

Accession Number: 20140530-5161.

Comments Due: 5 p.m. ET 6/11/14.

Docket Numbers: RP14-1022-000.

Applicants: MarkWest Pioneer, L.L.C.

Description: MarkWest Pioneer—Quarterly FRP Filing to be effective 7/1/2014.

Filed Date: 5/30/14.

Accession Number: 20140530-5164.

Comments Due: 5 p.m. ET 6/11/14.

Docket Numbers: RP14-1023-000.

Applicants: Algonquin Gas Transmission, LLC.

Description: Negotiated Rate Release eff 6-1-14 to be effective 6/1/2014.

Filed Date: 5/30/14.

Accession Number: 20140530-5166.

Comments Due: 5 p.m. ET 6/11/14.

Docket Numbers: RP14-1024-000.

Applicants: Central New York Oil And Gas, L.L.C.

Description: Proposed Revisions to FERC Gas Tariff to be effective 8/1/2014.

Filed Date: 5/30/14.

Accession Number: 20140530-5181.

Comments Due: 5 p.m. ET 6/11/14.

Docket Numbers: RP14-1025-000.

Applicants: Young Gas Storage Company, Ltd.

Description: Xpress to Dart Conversion Filing to be effective 12/31/9998.

Filed Date: 5/30/14.

Accession Number: 20140530-5185.

Comments Due: 5 p.m. ET 6/11/14.

Docket Numbers: RP14-1026-000.

Applicants: Tallgrass Interstate Gas Transmission, L.

Description: Neg Rate 2014-05-23 CSU, Tenaska NRA, Housekeeping to be effective 6/1/2014.

Filed Date: 5/30/14.

Accession Number: 20140530-5197.

Comments Due: 5 p.m. ET 6/11/14.

Docket Numbers: RP14-1027-000.

Applicants: Trailblazer Pipeline Company LLC.

Description: Neg Rate 2014-05-30 Green Plains A&R to be effective 6/1/2014.

Filed Date: 5/30/14.

Accession Number: 20140530-5200.

Comments Due: 5 p.m. ET 6/11/14.

Docket Numbers: RP14-1028-000.

Applicants: El Paso Natural Gas Company, L.L.C.

Description: Non-Conforming Agreements Filing (NTUA, Las Cruces, TEP) to be effective 7/1/2014.

Filed Date: 5/30/14.

Accession Number: 20140530-5202.

Comments Due: 5 p.m. ET 6/11/14.

Docket Numbers: RP14-1029-000.

Applicants: Ruby Pipeline, L.L.C.

Description: FL&U and EPC Rate Adjustment and Index Price Development Update Filing to be effective 7/1/2014.

Filed Date: 5/30/14.

Accession Number: 20140530-5231.

Comments Due: 5 p.m. ET 6/11/14.

Docket Numbers: RP14-1030-000.

Applicants: Tennessee Gas Pipeline Company, L.L.C.

Description: PCB Adjustment Period Extension through June 2016 to be effective 7/1/2014.

Filed Date: 5/30/14.

Accession Number: 20140530-5251.

Comments Due: 5 p.m. ET 6/11/14.

Docket Numbers: RP14-1031-000.

Applicants: Eastern Shore Natural Gas Company.

Description: Fuel Retention and Cash-Out Adjustment to be effective 7/1/2014.

Filed Date: 5/30/14.

Accession Number: 20140530-5381.

Comments Due: 5 p.m. ET 6/11/14.

Docket Numbers: RP14-1032-000.

Applicants: TransColorado Gas Transmission Company L.

Description: Prospective Sale of Capacity and Form of Service Agreement Update to be effective 7/1/2014.

Filed Date: 5/30/14.

Accession Number: 20140530-5432.

Comments Due: 5 p.m. ET 6/11/14.

Docket Numbers: RP14-1033-000.

Applicants: Columbia Gas Transmission, LLC.

Description: Columbia Gas Transmission, LLC Off System Capacity Request.

Filed Date: 5/30/14.

Accession Number: 20140530-5472.

Comments Due: 5 p.m. ET 6/11/14.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP14-689-001.

Applicants: American Midstream (Midla), LLC.

Description: Midla Compliance Filing in RP14-689 to be effective 4/1/2014.

Filed Date: 5/29/14.

Accession Number: 20140529-5218.

Comments Due: 5 p.m. ET 6/10/14.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 2, 2014.
Nathaniel J. Davis, Sr.,
Deputy Secretary.

[FR Doc. 2014-13367 Filed 6-6-14; 8:45 am]

BILLING CODE 6717-01-P